DEPARTMENT OF HEALTH AND HUMAN SERVICES

National Institutes of Health

National Library of Medicine; Cancellation of Meetings

Notice is hereby given of the cancellation of the Commission on Systemic Interoperability, September 13, 2005, 8 a.m. to 4 p.m., Hubert H. Humphrey Building, Room 800, 200 Independence Avenue, Washington, DC 20201, cancellation of the Commission on Systemic Interoperability Teleconference, October 11, 2005, 3 p.m. to 4:30 p.m., National Library of Medicine, Conference Room B, Building 38, 2nd Floor, Bethesda, Maryland 20894, and the cancellation of the Commission on Systemic Interoperability, October 24, 2005, 8 a.m. to 1 p.m., Hubert H. Humphrey Building, Room 800, 200 Independence Avenue, Washington, DC 20201, all of which were published in the Federal Register on July 13, 2005, 70 FR 40392.

These meetings are cancelled, as they are no longer necessary to complete Commission activities.

Dated: August 31, 2005.
Anthony M. Coelho, Jr.,
Acting Director, Office of Federal Advisory Committee Policy.

[FR Doc. 05-17940 Filed 9-8-05; 8:45 am]

BILLING CODE 4140-01-M